INTERNATIONAL TRADE COMMISSION

[Investigation No. 337-TA-552]

In the Matter of Certain Flash Memory Devices, and Components Thereof, and Products Containing Such Devices and Components; Notice of Commission Decision Not to Review the Administrative Law Judge's Final Initial Determination That There is No Violation of Section 337; Termination of Investigation

AGENCY: U.S. International Trade Commission.

ACTION: Notice.

SUMMARY: Notice is hereby given that the United States International Trade Commission has determined not to review an initial determination (“ID”) issued by the presiding administrative law judge (“ALJ”) finding no violation of section 337 of the Tariff Act of 1930, as amended, and to terminate the investigation.

FOR FURTHER INFORMATION CONTACT: Jean Jackson, Esq., Office of the General Counsel, U.S. International Trade Commission, 500 E Street, SW., Washington, DC 20436, telephone (202) 205-3104. Copies of non-confidential documents filed in connection with this investigation are or will be available le for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 4, 2005, based on a complaint filed by Toshiba Corporation of Tokyo, Japan (“Toshiba”) under section 337 of the Tariff Act of 1930, as amended, 19 U.S.C. 1337. 70 FR 67192-193 (November 4, 2005). The complainant alleged violations of section 337 in the importation and sale of certain flash memory devices and components thereof, and products containing such devices and components, by reason of infringement of claims 1-4 of U.S. Patent No. 5,150,178 (“the ‘178 patent”); claims 1, 6 and 7 of U.S. Patent No. 5,270,969 (“the ‘969 patent”); and claims 1 and 4 of U.S. Patent No. 5,517,449 (“the ‘449 patent”). The complainant named Hynix Semiconductor of Ischon-si, Republic of Korea, and Hynix Semiconductor America, Inc. of San Jose, California (collectively “Hynix”) as respondents.

On November 21, 2005, Toshiba moved for leave to amend the complaint to add claim 5 of the ‘178 patent. On December 2, 2005, the ALJ issued an ID (Order No. 4) granting the motion to amend the complaint. The Commission determined not to review this ID.

An evidentiary hearing was held from July 5, 2006, through July 13, 2006. On November 65, 2006, the ALJ issued his final ID and recommended determination on remedy and bonding. The ALJL concluded that there was no violation of section 337. Specifically, he found that the asserted claims of the ‘178, ‘969, and ‘449 patents are not infringed and are not valid, and that there is no domestic industry involving the three patents.

On November 17, 2006, complainant Toshiba, the Commission investigative attorney, and respondent Hynix petitioned for review of various portions of the final ID. On November 28, 2006, all parties filed responses to the petitions for review.

Having examined the record of this investigation, including the ALJ's final ID, the petitions for review, and the responses thereto, the Commission has determined not to review the ALJ's ID, and has terminated the investigation.

The authority for the Commission's determination is contained in section 337 of the Tariff Act of 1930, as amended (19 U.S.C. 1337), and in section 210.42-45 of the Commission's Rules of Practice and Procedure (19 CFR 210.42-45).

Issued: December 22, 2006.
By order of the Commission.
Marilyn R. Abbott,
Secretary to the Commission.

[FR Doc. 06-9916 Filed 12-28-06; 8:45 am]

BILLING CODE 7020-02-M